SMALL BUSINESS ADMINISTRATION

National Small Business Development Center Advisory Board

AGENCY: U.S. Small Business Administration (SBA).

ACTION: Notice of open Federal Advisory Committee meetings.

SUMMARY: The SBA is issuing this notice to announce the location, date and time and agenda for the 4th quarter meetings of the National Small Business Development Center (SBDC) Advisory Board.

DATES: The meetings for the 4th quarter will be held on the following dates:

Tuesday, July 15, 2014 at 1:00 pm EST;

Tuesday, August 19, 2014 at 1:00 pm EST;

Tuesday, September 16, 2014 at 1:00 pm EST.

ADDRESSES: This meeting will be held via conference call.

SUPPLEMENTARY INFORMATION: Pursuant to section 10(a) of the Federal Advisory Committee Act (5 U.S.C. Appendix 2), SBA announces the meetings of the National SBDC Advisory Board. This Board provides advice and counsel to the SBA Administrator and Associate Administrator for Small Business Development Centers.

The purpose of these meetings is to discuss following issues pertaining to the SBDC

Advisory Board

—SBA Update

—Annual Meetings

—Board Assignments

—Member Roundtable

FOR FURTHER INFORMATION CONTACT: The meetings are open to the public however advance notice of attendance is requested. Anyone wishing to be a listening participant must contact Monika Nixon by fax or email. Her contact information is Monika Nixon, Program Specialist, 409 Third Street SW., Washington, DC 20416, Phone 202-205-7310, Fax 202-481-5624, email, monika.nixon@sba.gov.

Additionally, if you need accommodations because of a disability or require additional information, please contact Monika Nixon at the information above.

Diana Doukas,
Committee Management Officer.

[FR Doc. 2014-10273 Filed 5-5-14; 8:45 am]

BILLING CODE P